FEDERAL COMMUNICATIONS COMMISSION

47 CFR Parts 2 and 26

[WT Docket No. 00-32; FCC 02-47]

The 4.9 GHz Band Transferred From Federal Government Use

AGENCY: Federal Communications Commission.

ACTION: Final rule; delay of effective date.

SUMMARY: This document delays the effective date of the Second Report and Order, published April 9, 2002, (67 FR 17009) from May 9, 2002 to May 13, 2002. The Second Report and Order allocated 50 megahertz of spectrum in the 4940-4990 band (4.9 GHz band) for fixed and mobile services (except aeronautical mobile service) and designated this band for use in support of public safety. Due to unforeseen delays in the Federal Register publication of a final action that also revised page 55 of the Table of Frequency Allocations, 47 CFR 2.106, the Commission has determined that the effective date of the Second Report and Order must be delayed from May 9, 2002 to May 13, 2002. This action will allow page 55 to be printed in the correct sequence.

DATES: The effective date for the Second Report and Order amending 47 CFR parts 2 and 26, published April 9, 2002, 67 FR 17009, is delayed until May 13, 2002.

FOR FURTHER INFORMATION CONTACT: Genevieve Augustin, Esq., guagusti@fcc.gov, Policy and Rules Branch, Public Safety and Private Wireless Division, Wireless Telecommunications Bureau, (202) 418-0680.

SUPPLEMENTARY INFORMATION: The Commission adopted a Second Report and Order, WT Docket No. 00-32, FCC 02-47, on February 14, 2002, and released on February 27, 2002. An effective date of May 9, 2002, was set by the Commission, 67 FR 17009, April 9, 2002. The Second Report and Order allocated 50 megahertz of spectrum in the 4940-4990 MHz band (4.9 GHz band) for fixed and mobile services (except aeronautical mobile service) and designates this band for use in support of public safety. The allocation and designation provide Public safety users with additional spectrum to support new broadband applications. This document delays that effective date from May 9, 2002, until May 13, 2002.

List of Subjects

47 CFR Part 2

Communications equipment, Radio.

47 CFR Part 26

Communications common carriers, Radio.

Federal Communications Commission.
Marlene H. Dortch,
Secretary.

[FR Doc. 02-10475 Filed 4-26-02; 8:45 am]

BILLING CODE 6712-01-P